ENVIRONMENTAL PROTECTION AGENCY

[EPA-HQ-OPPT-2020-0738; FRL-10021-81]

Chemical Category for Octahydro-Tetramethyl-Naphthalenyl-Ethanone (OTNE); Manufacturer Request for Risk Evaluation Under the Toxic Substances Control Act (TSCA); Extension of Comment Period

AGENCY: Environmental Protection Agency (EPA).

ACTION: Notice; extension of comment period.

SUMMARY: In the Federal Register notice of February 19, 2021, EPA announced the availability of and solicited public comment on a manufacturer request for a risk evaluation of ethanone, 1-(1,2,3,4,5,6,7,8-octahydro-2,3,5,5-tetramethyl-2-naphthalenyl), ethanone, 1-(1,2,3,4,5,6,7,8-octahydro-2,3,8,8-tetramethyl-2-naphthalenyl), ethanone, 1-(1,2,3,4,6,7,8,8a-octahydro-2,3,8,8-tetramethyl-2-naphthalenyl), and ethanone, 1-(1,2,3,5,6,7,8,8a-octahydro-2,3,8,8-tetramethyl-2-naphthalenyl) (collectively, “OTNE”) under the Toxic Substances Control Act (TSCA). This document extends the comment period for 30 days from April 5, 2021 to May 5, 2021.

DATES: The comment period for the notice published February 19, 2021, at 86 FR 10267, is extended. Comments, identified by docket identification (ID) number EPA-HQ-OPPT-2020-0738, must be received on or before May 5, 2021.

ADDRESSES: Submit your comments, identified by docket identification (ID) number EPA-HQ-OPPT-2020-0738, through the Federal eRulemaking Portal at http://www.regulations.gov. Follow the online instructions for submitting comments. Do not submit electronically any information you consider to be Confidential Business Information (CBI) or other information whose disclosure is restricted by statute. To make special arrangements for hand delivery or delivery of boxed information, please follow the instructions at http://www.epa.gov/dockets/contacts.html.

Please note that due to the public health emergency the EPA Docket Center (EPA/DC) and Reading Room were closed to public visitors on March 31, 2020. Our EPA/DC staff will continue to provide customer service via email, phone, and webform. For further information on EPA/DC services, docket contact information and the current status of the EPA/DC and Reading Room, please visit https://www.epa.gov/dockets.

FOR FURTHER INFORMATION CONTACT:

For technical information contact: Jeffrey Putt, Existing Chemicals Risk Management Division (Mail Code 7404T), Office of Pollution Prevention and Toxics, Environmental Protection Agency, 1200 Pennsylvania Ave. NW, Washington, DC 20460-0001; telephone number: (202) 564-3703; email address: putt.jeffrey@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of February 19, 2021 (86 FR 10267) (FRL-10019-82), for 30 days, from April 5, 2021 to May 5, 2021. In that document, EPA announced the availability of and solicited public comment on a manufacturer request for a risk evaluation of OTNE under the Toxic Substances Control Act (TSCA). More information on the manufacturer request, risk evaluations under TSCA, and EPA's solicitation of comment can be found in the Federal Register issue of February 19, 2021.

An extension of the comment period was requested by stakeholders to allow interested parties additional time to thoroughly review the inclusion of any additional conditions of use and potentially exposed or susceptible subpopulations. The Agency is in the process of broadly re-examining how it intends to implement these and other provisions of amended TSCA including determining how new executive orders and other direction provided by the Biden-Harris Administration will be addressed. EPA agrees that an extension of the comment period is warranted.

To submit comments, or access the docket, please follow the detailed instructions provided under ADDRESSES. If you have questions, consult the technical persons listed under FOR FURTHER INFORMATION CONTACT.

Dated: March 24, 2021.
Michal Freedhoff,
Acting Assistant Administrator, Office of Chemical Safety and Pollution Prevention.

[FR Doc. 2021-06495 Filed 4-2-21; 8:45 am]

BILLING CODE 6560-50-P